DEPARTMENT OF ENERGY

Federal Energy Regulatory Commission

Combined Notice of Filings #1

Take notice that the Commission received the following electric corporate filings:

Docket Numbers: EC22-68-000.

Applicants: KCE NY 1, LLC, KCE NY 6, LLC.

Description: Joint Application for Authorization Under Section 203 of the Federal Power Act of KCE NY 1, LLC, et al.

Filed Date: 5/27/22.

Accession Number: 20220527-5348

Comment Date: 5 p.m. ET 6/17/22.

Take notice that the Commission received the following electric rate filings:

Docket Numbers: ER16-2320-011.

Applicants: Pacific Gas and Electric Company.

Description: Refund Report: TO18 Compliance Refund Report to be effective N/A.

Filed Date: 5/31/22.

Accession Number: 20220531-5294.

Comment Date: 5 p.m. ET 6/21/22.

Docket Numbers: ER20-1466-001.

Applicants: Louisville Gas and Electric Company.

Description: Compliance filing: Order 864 Compliance Filing Revised Attachment O to be effective 1/27/2020.

Filed Date: 5/31/22.

Accession Number: 20220531-5153.

Comment Date: 5 p.m. ET 6/21/22.

Docket Numbers: ER20-1829-002.

Applicants: Trans-Allegheny Interstate Line Company, PJM Interconnection, L.L.C.

Description: Compliance filing: Trans-Allegheny Interstate Line Company submits tariff filing per 35: TrAILCo Order 864 Compliance Filing in ER20-1829 to be effective 1/27/2020.

Filed Date: 5/31/22.

Accession Number: 20220531-5154.

Comment Date: 5 p.m. ET 6/21/22.

Docket Numbers: ER22-1128-001.

Applicants: Alabama Power Company, Georgia Power Company, Mississippi Power Company.

Description: Tariff Amendment: Alabama Power Company submits tariff filing per 35.17(b): PEHA bn (Pepper Hammock Solar & Storage) LGIA Deficiency Response to be effective 2/11/2022.

Filed Date: 5/31/22.

Accession Number: 20220531-5279.

Comment Date: 5 p.m. ET 6/21/22.

Docket Numbers: ER22-1985-000.

Applicants: FirstEnergy Service Company, PJM Interconnection, L.L.C.

Description: § 205(d) Rate Filing: FirstEnergy Service Company submits tariff filing per 35.13(a)(2)(iii: FirstEnergy submits on behalf of ATSI et al. Revised SA No. 2853 to be effective 7/27/2022.

Filed Date: 5/27/22.

Accession Number: 20220527-5306.

Comment Date: 5 p.m. ET 6/17/22.

Docket Numbers: ER22-1986-000.

Applicants: Basin Electric Power Cooperative, North Iowa Municipal Electric Cooperative Association.

Description: Request for Limited Waiver of Basin Electric Power Cooperative, et al.

Filed Date: 5/27/22.

Accession Number: 20220527-5339.

Comment Date: 5 p.m. ET 6/17/22.

Docket Numbers: ER22-1987-000.

Applicants: Pacific Gas and Electric Company.

Description: § 205(d) Rate Filing: May 2022 Western WDT Service Agreement Biannual Filing (SA 17) to be effective 8/1/2022.

Filed Date: 5/31/22.

Accession Number: 20220531-5175.

Comment Date: 5 p.m. ET 6/21/22.

Docket Numbers: ER22-1988-000.

Applicants: Pacific Gas and Electric Company.

Description: § 205(d) Rate Filing: May 2022 Western Interconnection Biannual Filing (TO SA 59) to be effective 8/1/2022.

Filed Date: 5/31/22.

Accession Number: 20220531-5178.

Comment Date: 5 p.m. ET 6/21/22.

Docket Numbers: ER22-1989-000.

Applicants: Basin Electric Power Cooperative.

Description: Tariff Amendment: Notice of Cancellation of Service Agreement Nos. 15, 28, and 37 to be effective 4/19/2022.

Filed Date: 5/31/22.

Accession Number: 20220531-5195.

Comment Date: 5 pm ET 6/21/22.

Docket Numbers: ER22-1990-000.

Applicants: DTE Electric Company.

Description: § 205(d) Rate Filing: Update to Reactive Revenue Volume No. 5 to be effective 6/1/2022.

Filed Date: 5/31/22.

Accession Number: 20220531-5266.

Comment Date: 5 p.m. ET 6/21/22.

Take notice that the Commission received the following public utility holding company filings:

Docket Numbers: PH22-16-000.

Applicants: Énergir Inc.

Description: Énergir Inc. submits FERC 65-B Notice of Change in Fact to Waiver Notification.

Filed Date: 5/27/22.

Accession Number: 20220527-5356.

Comment Date: 5 p.m. ET 6/17/22.

Docket Numbers: PH22-17-000.

Applicants: Énergir Development Inc.

Description: Énergir Development Inc. submits FERC 65-B Notice of Change in Fact to Waiver Notification.

Filed Date: 5/27/22.

Accession Number: 20220527-5358.

Comment Date: 5 p.m. ET 6/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2022.
Debbie-Anne A. Reese,
Deputy Secretary.

[FR Doc. 2022-12092 Filed 6-3-22; 8:45 am]

BILLING CODE 6717-01-P